DEPARTMENT OF HEALTH AND HUMAN SERVICES

Centers for Disease Control and Prevention

Advisory Committee on Childhood Lead Poisoning Prevention (ACCLPP)

In accordance with section 10(a)(2) of the Federal Advisory Committee Act (Pub. L. 92-463), the Centers for Disease Control and Prevention (CDC), National Center for Environmental Health (NCEH) announces the following meeting of the aforementioned committee.

Times and Dates: March 14, 2007, 8:30 a.m.-5 p.m. March 15, 2007, 8:30 a.m.-12:30 p.m.

Place: Crowne Plaza Hotel, Atlanta-Buckhead, 3377 Peachtree Road, NE., Atlanta, GA 30326, telephone 404 233-7061.

Status: Open to the public, limited only by the space available. The meeting room accommodates approximately 75 people.

Purpose: The Committee provides advice and guidance to the Secretary, Health and Human Services; the Assistant Secretary for Health; and the Director, CDC, regarding new scientific knowledge and technological developments and their practical implications for childhood lead poisoning prevention efforts. The committee also reviews and reports regularly on childhood lead poisoning prevention practices and recommends improvements in national childhood lead poisoning prevention efforts.

Matters to be Discussed: Update on Lead and pregnancy Workgroup activities, discussions of laboratory capacity to analyze BLL< 2 μg/dL, and actions needed to meet the 2010 elimination goal. Agenda items are subject to change as priorities dictate.

Opportunities will be provided during the meeting for oral comments. Depending on the time available and the number of requests, it may be necessary to limit the time of each presenter.

For Further Information Contact: Claudine Johnson, Clerk (Contractor), Lead Poisoning Prevention Branch, Division of Environmental Emergency Health Services, NCEH, CDC, 4770 Buford Hwy, NE., Mailstop F-40, Atlanta, GA 30341, telephone 770 488-3629,fax 770 488-3635.

The Director, Management Analysis and Services Office, has been delegated the authority to sign Federal Register notices pertaining to announcements of meetings and other committee management activities, for both CDC and the Agency for Toxic Substances and Disease Registry.

Dated: February 8, 2007.
Elaine L. Baker,
Acting Director, Management Analysis and Services Office, Centers for Disease Control and Prevention.

[FR Doc. E7-2515 Filed 2-13-07; 8:45 am]

BILLING CODE 4163-18-P